DEPARTMENT OF EDUCATION

Privacy Act of 1974; System of Records—Study of Promising Features of Teacher Preparation Programs

AGENCY: Institute of Education Sciences, Department of Education.

ACTION: Notice of a new system of records.

SUMMARY: In accordance with the Privacy Act of 1974, as amended (Privacy Act), the Department of Education (Department) publishes this notice of a new system of records entitled “Study of Promising Features of Teacher Preparation Programs” (18-13-29). The National Center for Education Evaluation and Regional Assistance at the Department's Institute of Education Sciences (IES) awarded a contract in September 2011 to Abt Associates to conduct a rigorous study of the effect on student learning of teachers who have experienced intensive clinical practice in their teacher preparation programs. The system of records will contain records on approximately 5,000 students and 360 teachers from 125 school districts and will be used to conduct the study.

DATES: In accordance with the requirements of the Privacy Act, the Department seeks comments on the new system of records described in this notice and in particular on the proposed routine uses for the new system of records. We must receive your comments on or before July 30, 2012.

The Department filed a report describing the new system of records covered by this notice with the Chair of the Senate Committee on Homeland Security and Governmental Affairs, the Chair of the House Committee on Oversight and Government Reform, and the Administrator of the Office of Information and Regulatory Affairs, Office of Management and Budget (OMB) on June 25, 2012. This system of records will become effective at the later date of—(1) the expiration of the 40-day period for OMB review on August 6, 2012, unless OMB waives 10 days of the 40-day review period for compelling reasons shown by the Department, or (2) July 30, 2012, unless the system of records needs to be changed as a result of public comment or OMB review. The Department will publish any changes to the system of records or routine uses that result from public comment or OMB review.

ADDRESSES: Address all comments about the proposed routine uses to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send your comments through the Internet, use the following address: comments@ed.gov.

You must include the term “Study of Promising Features of Teacher Preparation Programs” in the subject line of the electronic message.

During and after the comment period, you may inspect all public comments about this notice at the Department in Room 502D, 555 New Jersey Avenue NW., Washington, DC, between the hours of 8:00 a.m. and 4:30 p.m., Washington, DC time, Monday through Friday of each week except Federal holidays.

Assistance to Individuals With Disabilities in Reviewing the Rulemaking Record

On request we will provide an appropriate accommodation or auxiliary aid such as a reader or print magnifier to an individual with a disability who needs assistance to review the comments or other documents in the public rulemaking record for this notice. If you want to schedule an appointment for this type of accommodation or aid, please contact the person listed under FOR FURTHER INFORMATION CONTACT.

FOR FURTHER INFORMATION CONTACT: Dr. Audrey Pendleton Associate Commissioner, Evaluation Division, National Center for Education Evaluation and Regional Assistance, Institute of Education Sciences, U.S. Department of Education, 555 New Jersey Avenue NW., Room 502D, Washington, DC 20208-0001. Telephone: (202) 208-7078. If you use a telecommunications device for the deaf (TDD) or a text telephone (TTY), call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records (5 U.S.C. 552a(e)(4) and (e)(11)). The Department's regulations implementing the Privacy Act are contained in the Code of Federal Regulations (CFR) at 34 CFR part 5b.

The Privacy Act applies to information about individuals that contains individually identifying information and that is retrieved by a unique identifier associated with each individual, such as a name or social security number (SSN). The information about each individual is called a “record,” and the system, whether manual or computer-based, is called a “system of records.”

Whenever the Department publishes a new system of records or makes a significant change to an established system of records, the Privacy Act requires it to publish a system of records notice in the Federal Register. The Department is also required to submit reports to the Administrator of the Office of Information and Regulatory Affairs at OMB, the Chair of the Senate Committee on Homeland Security and Governmental Affairs, and the Chair of the House of Representatives Committee on Oversight and Government Reform. These reports are intended to permit an evaluation of the probable effect of the proposal on the privacy rights of individuals.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 25, 2012.
John Q. Easton,
Director, Institute of Education Sciences.

For the reasons discussed in the preamble, the Director of the Institute of Education Sciences, U.S. Department of Education (Department) publishes a notice of a new system of records to read as follows:

System Number: 18-13-29

System Name:

Study of Promising Features of Teacher Preparation Programs.

Security Classification:

None.

System Locations:

(1) Evaluation Division, National Center for Education Evaluation and Regional Assistance, Institute of Education Sciences (IES), U.S. Department of Education, 555 New Jersey Avenue NW., Room 502D, Washington, DC 20208-0001.

(2) Abt Associates, 55 Wheeler Street, Cambridge, MA 02138-1168 (contractor).

(3) Chesapeake Research Associates, 708 Riverview Terrace, Annapolis, MD 21401-7119 (subcontractor).

Categories Of Individuals Covered By The System:

The system will contain records on approximately 5,000 students and 360 teachers from 125 school districts.

Categories Of Records In The System:

The system of records will include information about the students and teachers who participate in the study. For students, this information will include, but will not necessarily be limited to, name; birth date; demographic information such as race, ethnicity, gender, and educational background; information on attendance and disciplinary incidences; and scores on reading and mathematics achievement tests. For teachers, this information will include, but will not necessarily be limited to, name and contact information; demographic information such as race and ethnicity; information on postsecondary institution attended and teaching experience; scores on postsecondary entrance exams; and will possibly include scores on teacher licensure exams.

Authority For Maintenance Of The System:

The study is authorized under section 9601 of the Elementary and Secondary Education Act of 1965, as amended (ESEA) (20 U.S.C. 7941).

Purpose(s):

The information contained in the records maintained in this system will be used to conduct a rigorous study of the effect on student learning of teachers who have experienced intensive clinical practice within their teacher preparation programs.

The study will address the following central research question: What is the impact on students' reading and math achievement of novice elementary school teachers who experienced intensive clinical practice as part of their pre-service teacher preparation programs compared to students of novice elementary school teachers who did not have the same experience as part of their pre-service teacher preparation programs?

Secondary research questions for the impact study are: Among the teachers studied, what are the core features of teacher preparation programs? In particular, to what extent does preparation vary on the basis of selected dimensions of clinical practice? What is the impact on the classroom practices of novice elementary school teachers who experienced intensive clinical practice as part of their pre-service teacher preparation programs compared to novice elementary school teachers who did not have the same experience as part of their pre-service teacher preparation programs? What teacher preparation features (such as opportunities to teach throughout the preparation program, extent or nature of the clinical practice, and structured feedback during clinical practice) are associated with teacher effectiveness?

Routine Uses Of Records Maintained In The System, Including Categories Of Users And The Purposes Of Such Uses:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act) (5 U.S.C. 552a), under a computer matching agreement. Any disclosure of individually identifiable information from a record in this system must also comply with the requirements of section 183 of the Education Sciences Reform Act (ESRA) (20 U.S.C. 9573), which provides confidentiality standards that apply to all collection, reporting, and publication of data by IES.

Contract Disclosure. If the Department contracts with an entity to perform any function that requires disclosing records in this system to the contractor's employees, the Department may disclose the records to those employees who have received the appropriate level of security clearance from the Department. Before entering into such a contract, the Department will require the contractor to establish and maintain the safeguards required under the Privacy Act (5 U.S.C. 552a(m)) with respect to the records in the system.

Disclosure To Consumer Reporting Agencies:

None.

Policies And Practices For Storing, Retrieving, Accessing, Retaining, And Disposing Of Records In The System:

Storage:

The Department maintains records on CD-ROM, and the contractor (Abt Associates Inc.) and sub-contractor (Chesapeake Research Associates) maintain data for this system on computers and in hard copy.

Retrievability:

Records in this system are indexed and retrieved by a unique number assigned to each individual that is cross-referenced by the individual's name on a separate list.

Safeguards:

All physical access to the Department's site and to the sites of the Department's contractor and subcontractor, where this system of records is maintained, is controlled and monitored by security personnel. The computer system employed by the Department offers a high degree of resistance to tampering and circumvention. This security system limits data access to Department and contract staff on a need-to-know basis and controls individual users' ability to access and alter records within the system.

The contractor and subcontractor will establish a similar set of procedures at their sites to ensure confidentiality of data. The contractor and subcontractor are required to ensure that print data identifying individuals are in files physically separated from other research data and electronic files identifying individuals are separated from other electronic research data files. The contractor and subcontractor will maintain security of the complete set of all master data files and documentation. Access to individually identifying data will be strictly controlled. At each site, all print data will be kept in locked file cabinets during nonworking hours and work on hardcopy data will take place in a single room, except for data entry.

Physical security of electronic data will also be maintained. Security features that protect project data include: password-protected accounts that authorize users to use the contractor's system but to access only specific network directories and network software; user rights and directory and file attributes that limit those who can use particular directories and files and determine how they can use them; and additional security features that the network administrators will establish for projects as needed. The Department's, contractor's, and subcontractor's employees who “maintain” (collect, maintain, use, or disseminate) data in this system must comply with the requirements of the Privacy Act and the confidentiality standards in section 183 of the ESRA (20 U.S.C. 9573).

Retention And Disposal:

Records are maintained and disposed of in accordance with the Department's Records Disposition Schedules (GRS 23, Item 8).

System Manager And Address:

Associate Commissioner, Evaluation Division, National Center for Education Evaluation and Regional Assistance, Institute of Education Sciences, U.S. Department of Education, 555 New Jersey Avenue NW., Room 502D, Washington, DC 20208-0001.

Notification Procedure:

If you wish to determine whether a record exists regarding you in the system of records, contact the system manager at the address listed under System Manager and Address. Your request must meet the requirements of the Department's Privacy Act regulations at 34 CFR 5b.5, including proof of identity.

Record Access Procedure:

If you wish to gain access to a record about you in this system of records, contact the system manager at the address listed under System Manager and Address. Your request must meet the requirements of the Department's Privacy Act regulations at 34 CFR 5b.5, including proof of identity.

Contesting Record Procedure:

If you wish to contest the content of a record regarding you in the system of records, contact the system manager at the address listed under System Manager and Address. Your request for access to a record must meet the requirements of the Department's Privacy Act regulations at 34 CFR 5b.7, including proof of identity, specification of the particular record you are seeking to have changed, and the written justification for making such a change.

Record Source Categories:

This system will contain records on teachers, and students participating in a study of promising features of teacher preparation programs. Data will be obtained through human resource and student records maintained by the school districts, assessments administered to students, and surveys of teachers.

Exemptions Claimed For The System:

None.

[FR Doc. 2012-15886 Filed 6-27-12; 8:45 am]

BILLING CODE 4000-01-P